DEPARTMENT OF JUSTICE

Notice of Lodging Proposed Consent Decree

In accordance with Departmental policy, 28 U.S.C. 50.7, notice is hereby given that a proposed Consent Decree in United States v. Bridlewood Development, LLC, Civil No. 2:16-cv-03031-PMD, was lodged with the United States District Court for the District of South Carolina on September 8, 2016.

The proposed Consent Decree concerns a complaint filed by the United States against Defendants Bridlewood Development, LLC, Whitehorse I, LLC, Gorden Timmons, and Edward Scott, pursuant to Sections 301, 309, and 404 of the Clean Water Act, 33 U.S.C. 1311, 1319, and 1344, to obtain injunctive relief from and impose civil penalties against the Defendants for violating the Clean Water Act by discharging pollutants without a permit into waters of the United States in Dorchester County, South Carolina. The proposed Consent Decree resolves these allegations by requiring the Defendants to restore wetlands, to preserve wetlands, and to pay a civil penalty.

The Department of Justice will accept written comments relating to this proposed Consent Decree for thirty (30) days from the date of publication of this Notice. Please address comments to Andrew J. Doyle, Senior Attorney, United States Department of Justice, Environment and Natural Resources Division, Post Office Box 7611, Washington, DC 20044, and refer to U.S. v. Bridlewood Development, LLC, et al., DJ #90-5-1-4-20280.

The proposed Consent Decree may be examined at the Clerk's Office, United States District Court for the District of South Carolina, 85 Broad Street, Charleston, South Carolina 29401. In addition, the proposed Consent Decree may be examined electronically at http://www.justice.gov/enrd/consent-decrees.

Cherie L. Rogers,
Assistant Section Chief, Environmental Defense Section, Environment and Natural Resources Division.

[FR Doc. 2016-22072 Filed 9-13-16; 8:45 am]

BILLING CODE 4410-15-P